FEDERAL MARITIME COMMISSION

46 CFR Part 515

[Docket No. 14-08]

RIN 3072-AC56

Procedure for Public Notification of Ocean Transportation Intermediary Licensing Activity

AGENCY: Federal Maritime Commission.

ACTION: Direct final rule; and request for comments.

SUMMARY: The Federal Maritime Commission (FMC or Commission) amends its regulations concerning licensing, financial responsibility requirements, and general duties for Ocean Transportation Intermediaries (OTIs) to update its business processes for providing public notification of OTI license applications, revocations and suspensions.

DATES: This rule is effective on September 22, 2014 without further action, unless significant adverse comment is received by August 22, 2014. If significant adverse comment is received, the Federal Maritime Commission will publish a timely withdrawal of the rule in the Federal Register.

ADDRESSES: Submit comments to: Karen V. Gregory, Secretary, Federal Maritime Commission, 800 North Capitol Street NW., Washington, DC 20573-0001 or email non-confidential comments to: Secretary@fmc.gov (email comments as attachments preferably in Microsoft Word or PDF).

FOR FURTHER INFORMATION CONTACT: Karen V. Gregory, Secretary, Federal Maritime Commission, 800 N. Capitol Street NW., Washington, DC 20573-0001, (202) 523-5725, Fax (202) 523-0014, Email: Secretary@fmc.gov.

SUPPLEMENTARY INFORMATION: Section 19(c) of the Shipping Act, 46 U.S.C. 40903, requires that notice be provided prior to suspension or revocation of an OTI license. The Administrative Procedure Act (APA), 5 U.S.C. 558, provides that an agency must, when acting to withdraw, or annul a license required by law, provide notice in writing of (1) the facts or conduct warranting the action, and (2) opportunity for the licensee to demonstrate compliance with the law. However, neither the APA, nor the Freedom of Information Act, 5 U.S.C. 552(a)(1)(A), specifies that notice must be published in the Federal Register. Nonetheless, current Commission rules require Federal Register notice for both OTI license applications, 46 CFR 515.12, and revocation or suspension of OTI licenses, 46 CFR 515.16.

In order to simplify the Commission's business processes, reduce administrative costs, and provide more timely public notification, the Commission amends its regulations to change the method by which it provides notice of OTI licensing matters by publishing this information on the FMC's public Web site instead of publication in the Federal Register. Based on applicable laws, there is no requirement that Federal Register publication must occur to meet the notice requirement for OTI licensing matters.

This rule relates to internal agency management. Therefore, pursuant to 5 U.S.C. 553, notice and comment are not required and this rule may become effective after publication in the Federal Register. In a direct final rulemaking, an agency publishes a direct final rule in the Federal Register along with a statement that the rule will become effective unless the agency receives significant adverse comment within a specified period. The Commission is using a direct final rule for this rulemaking because it expects this regulation to be noncontroversial and because it simplifies the Commission's internal procedures. The Commission recognizes that parties may have information that could impact the Commission's views and intentions with respect to the proposed internal procedures, and the Commission intends to consider any comments filed. The Commission will withdraw the rule if it receives significant adverse comment. If no significant adverse comment is received, the rule will become effective without additional action.

This direct final rule is not a “major rule” under 5 U.S.C. 804(2). Because no notice of proposed rulemaking is required, the provisions of the Regulatory Flexibility Act, 5 U.S.C. 601, et seq., do not apply.

Finally, the Commission has determined that this regulation imposes no new recordkeeping, reporting, or disclosure requirements on members of the public, which would constitute collections of information requiring approval by the Office of Management and Budget under the Paperwork Reduction Act, 44 U.S.C 3501, et seq.

List of Subjects in 46 CFR Part 515

Freight, Freight forwarders, Maritime carriers, Reporting and recordkeeping requirements.

For the reasons stated in the supplementary information, the Federal Maritime Commission amends 46 CFR part 515 as follows.

PART 515—LICENSING, FINANCIAL RESPONSIBILITY REQUIREMENTS, AND GENERAL DUTIES FOR OCEAN TRANSPORTATION INTERMEDIARIES

1. The authority citation for part 515 continues to read as follows:

Authority: 5 U.S.C. 55; 31 U.S.C. 9701; 46 U.S.C. 305, 40102, 40104, 40501-40503, 41101-41109, 41301-41302, 41305-41307; Pub. L. 105-383,112 Stat. 3411; 21 U.S.C. 862.

§ 515.12 [Amended]

2. In § 515.12(a)(1) remove the words “in the Federal Register” and add, in their place, the words “on the Commission's Web site www.fmc.gov”.

§ 515.16 [Amended]

3. In § 515.16(b) remove the words “in the Federal Register” and add, in their place, the words “on the Commission's Web site www.fmc.gov”.

By the Commission.
Karen V. Gregory,
Secretary.

[FR Doc. 2014-17390 Filed 7-23-14; 8:45 am]

BILLING CODE 6730-01-P